DEPARTMENT OF JUSTICE

Notice of Lodging of Settlement Agreement in In re Special Metals Corporation, et al. Under the Comprehensive Environmental Response Compensation and Liability Act

Notice is hereby given that on August 25, 2004, a Settlement Agreement has been filed with the United States Bankruptcy Court for the Eastern District of Kentucky in In re Special Metals Corporation, et al., Case No. 02-10335-02-100338, Adversary No. 03-1010 (Bankr. E.D. Ky.), concerning liabilities of the Debtor under the Comprehensive Environmental Response, Compensation, and Liability Act (CERCLA) relating to the Ludlow Sand and Gravel Superfund Site in Paris, New York. This Settlement Agreement would resolve the Complaint for declaratory relief brought by Debtor against the United States and State of New York in this adversary proceeding and would require Debtor to participate in the environmental remediation at the Site by contributing $1,000,000 towards remediation at the Site.

The Department of Justice will receive comments relating to the Settlement Agreement for a period of thirty (30) days from the date of this publication. Comments should be addressed to the Assistant Attorney General, Environment and Natural Resources Division, P.O. Box 7611, U.S. Department of Justice, Washington, DC 20044-7611, and should refer to In re Special Metals Corporation, et al., (E.D. Ky), D.J. Ref. 90-11-3-08084. Commenters may request an opportunity for a public meeting in the affected area, in accordance with Section 7003(d) of RCRA, 42 U.S.C. 6973(d).

The Settlement Agreement may be examined at the Office of the United States Attorney for the Eastern District of Kentucky, 110 West Vine Street, Lexington, KY 40507-1671, by request to Assistant U.S. Attorney David Middleton; and at the United States Environmental Protection Agency, Region 2, 290 Broadway, New York, NY 10007 by request to Assistant Regional Counsel George Shanahan. During the public comment period, the Settlement Agreement may also be examined on the following Department of Justice Web site, http://www.usdoj.gov/enrd/open.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.00 (25 cents per page reproduction cost) payable to the U.S. Treasury.

Ronald G. Gluck,
Assistant Section Chief, Environmental Enforcement Section, Environment and Natural Resources Division.

[FR Doc. 04-19981 Filed 9-1-04; 8:45 am]

BILLING CODE 4410-15-M